UNIFIED CARRIER REGISTRATION PLAN

Sunshine Act Meetings

TIME AND DATE: November 20, 2025, 9:30 a.m., Eastern time.

PLACE: This meeting will be held at 529 14th Street NW, Suite 1280, Washington, DC 20045.

STATUS: This meeting will be open to the public.

MATTERS TO BE CONSIDERED: The Unified Carrier Registration Plan Governance Task Force (the “Task Force”) will conduct a meeting to continue its work in developing and implementing the Unified Carrier Registration Plan and Agreement. The subject matter of this meeting will include:

Proposed Agenda

I. Call to Order—UCR Governance Task Force Chair

The UCR Governance Task Force Chair will welcome attendees, call the meeting to order, call roll for the task force, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Task Force Agenda and Setting of Ground Rules—UCR Governance Task Force Chair

For Discussion and Possible Task Force Action

The Task Force Agenda will be reviewed, and the Task Force will consider adoption.

Ground Rules

➢ Task Force action only to be taken in designated areas on agenda.

IV. Discussion of and Possible Recommendations on Topics of Relevance to the UCR Plan Governance Task Force—UCR Governance Task Force Chair

For Discussion and Possible Task Force Action

The UCR Governance Task Force Chair will lead discussion on the following items: intent of the UCR as to whom it applies, allowed purposes for use of registration fees, initial calculation of state cap amounts, whether the costs of a state to administer and operate the UCR Act in that state would have been properly included in the initial cap amount submitted for each state, the commitment made by each participating state when it filed its State Plan, what is meant by the language of the UCR Act giving the Board the authority to “audit”, what the term “administrative costs” available to the Board means, what is the legislative charge of the Board, the RFP process for hiring UCR Plan contractors, and the Board policy for calculation and distribution of the money from the Depository to under capped states in years where the combined cap amount of all participating states will not be met. The Governance Task Force may vote to make recommendations on the topics listed above to a UCR Plan Subcommittee or to the UCR Plan Board.

V. Other Business—UCR Governance Task Force Chair

The UCR Governance Task Force Chair will call for any other items Task Force members would like to discuss.

VI. Adjournment—UCR Governance Task Force Chair

The UCR Governance Task Force Chair will adjourn the meeting.

The agenda will be available no later than 5:00 p.m. Eastern time, November 12, 2025 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-20006 Filed 11-13-25; 4:15 pm]

BILLING CODE 4910-YL-P